DEPARTMENT OF THE INTERIOR

Fish and Wildlife Service

Fisher Family Residence Construction Project, Mendocino County, CA

AGENCY: Fish and Wildlife Service, Interior.

ACTION: Notice of Availability of Environmental Assessment (EA); Receipt of an Application for Incidental Take Permit.

SUMMARY: We, the U.S. Fish and Wildlife Service (Service), announce that Denise and Andy Fisher (applicant) have applied for an incidental take permit pursuant to section 10(a)(1)(B) of the Endangered Species Act (Act) of 1973, as amended. We are considering issuing an 80-year permit to the application that would authorize take of the federally endangered Point Arena mountain beaver (Aplodontia rufa nigra; “PAMB”) and the federally endangered Behren's silverspot butterfly (Speyeria zerene behrensii; “BSSB”). The proposed permit would authorize the take of 28 PAMB and 2 BSSB incidental to otherwise lawful activities. The applicant needs the permit because take of PAMB and BSSB would occur as a result of construction and occupation of a single family residence, and installation of related improvements such as fencing and landscaping, on a 24.25 acre parcel near Point Arena, Mendocino County, California. The permit application includes a proposed Habitat Conservation Plan (HCP) that describes the proposed action and the measures that the Applicant will undertake to minimize and mitigate take of PAMB and BSSB.

DATES: We must receive any written comments on or before October 1, 2007.

ADDRESSES: Send written comments to Ms. Amedee Brickey, ES Program Manager, Fish and Wildlife Service, 1655 Heindon Road, Arcata, California 95521. You also may send comments by facsimile to (707) 822-8411.

FOR FURTHER INFORMATION CONTACT: Ms. Amedee Brickey, (see ADDRESSES), (707) 822-7201.

SUPPLEMENTARY INFORMATION:

Availability of Documents

You may obtain copies of these documents for review by contacting the above office. Documents also will be available for public inspection, by appointment, during normal business hours at the above address.

Background

Section 9 of the Act and Federal regulations prohibit the “take” of fish and wildlife species listed as endangered or threatened. Take of federally listed fish and wildlife is defined under the Act to include “harass, harm, pursue, hunt, shoot, wound, kill, trap, capture, or collect, or to attempt to engage in any such conduct.” We may, under limited circumstances, issue permits to authorize incidental take (i.e., take that is incidental to, and not the purpose of, the carrying out of an otherwise lawful activity). Regulations governing incidental take permits for threatened and endangered species are found in 50 CFR 17.32 and 17.22.

The Applicant proposes to construct and permanently occupy a 1,493 square foot single-family residence on a 24.25 acre parcel in Mendocino County, California. In addition to the construction of the residence, the applicant proposes to construct a driveway and a fenced livestock pasture, install power, water and septic utilities, and plant vegetation.

Construction and occupation of the single-family residence would directly impact the PAMB by removing 0.39 acres of occupied PAMB habitat, and 10.25 acres of potential BSSB habitat on the 24.25-acre parcel. The proposed development would result in the take of 28 PAMB and two BSSB.

To mitigate and offset the take of PAMB and BSSN, the applicant proposes to implement seasonal disturbance restrictions, and to dedicate two on-site conservation areas totaling 9.75 acres to be managed and preserved in perpetuity.

Our Environmental Assessment considers the environmental consequences of three alternatives, including: (1) The Proposed Project Alternative that would result in the development of the proposed project, the issuance of an ITP and the implementation of the measures in the HCP, including conservation areas; (2) an Alternative Project Layout Alternative that would result in the development of fewer acres, would not take any listed species, and would not include conservation areas; and (3) the No Action Alternative that would result in no development of the proposed project, would not take any listed species and would not include conservation areas.

National Environmental Policy Act

Proposed permit issuance triggers the need for compliance with the National Environmental Policy Act (NEPA). Accordingly, a draft NEPA document has been prepared. We are the Lead Agency responsible for compliance under NEPA. As the NEPA lead agency, we provide notice of the availability and are making available for public review the EA.

Public Review

We invite the public to review the HCP and EA during a 60-day public comment period (see DATES). Before including your address, phone number, e-mail address, or other personal identifying information in your comment, you should be aware that your entire comment—including your personal identifying information—may be made publicly available at any time. While you may ask us in your comment to withhold your personal identifying information from public review, we cannot guarantee that we will be able to do so.

We provide this notice pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of PAMB and BSSB. We will make our final permit decision no sooner than 60 days from the date of this notice.

Dated: July 25, 2007.
Ken McDermond,
Deputy Manager, California/Nevada Operations Office, Sacramento, California.

[FR Doc. E7-14888 Filed 7-31-07; 8:45 am]

BILLING CODE 4310-55-P